DEPARTMENT OF COMMERCE

International Trade Administration

[A-433-812, A-423-812, A-351-847, A-570-047, A-427-828, A-428-844, A-475-834, A-588-875, A-580-887, A-791-822, A-583-858, A-489-828]

Certain Carbon and Alloy Steel Cut-to-Length Plate From Austria, Belgium, Brazil, the People's Republic of China, France, the Federal Republic of Germany, the Republic of Korea, Italy, Japan, South Africa, Taiwan, and the Republic of Turkey: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on certain carbon and alloy steel cut-to-length plate (CTL plate) from Austria, Belgium, Brazil, the People's Republic of China (China), France, the Federal Republic of Germany (Germany), Italy, Japan, the Republic of Korea (Korea), South Africa, Taiwan, and the Republic of Turkey (Turkey) would be likely to lead to continuation or recurrence of dumping as indicated in the “Final Results of Sunset Reviews” section of this notice. The sunset period of review is 2017-2021.

DATES: Applicable March 25, 2022.

FOR FURTHER INFORMATION CONTACT: Bryan Hansen, AD/CVD Operations, Office I, Enforcement and Compliance, International Trade Administration, U.S. Department of Commerce, 1401 Constitution Avenue NW, Washington, DC 20230; telephone: (202) 482-3683.

SUPPLEMENTARY INFORMATION:

Background

On December 1, 2021, Commerce published the notice of initiation of the sunset reviews of the AD Orders on CTL plate from Austria, Belgium, Brazil, China, France, Germany, Italy, Japan, Korea, South Africa, Taiwan, and Turkey ¹ pursuant to section 751(c) of the Tariff Act of 1930, as amended (the Act).² In accordance with 19 CFR 351.218(d)(1)(i) and (ii), Commerce received notices of intent to participate in these sunset reviews from the domestic interested parties within 15 days after the date of publication of the Initiation Notice.³ The domestic interested parties claimed interested party status under section 771(9)(C) of the Act.⁴

¹ See Certain Carbon and Alloy Steel Cut-to-Length Plate from Brazil, South Africa, and the Republic of Turkey: Antidumping Duty Orders, 82 FR 8911 (February 1, 2017); Certain Carbon and Alloy Steel Cut-to-Length Plate from the People's Republic of China: Antidumping Duty Order, 82 FR 14349 (March 20, 2017); and Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017) (collectively, Orders).

² See Initiation of Five-Year (Sunset) Reviews, 86 FR 68220 (December 1, 2021).

³ The domestic interested parties are comprised of three domestic producers of CTL plate: SSAB Enterprises, LLC (SSAB), Cleveland-Cliffs Inc. (Cleveland-Cliffs), and Nucor Corporation (Nucor) (collectively, domestic interested parties). See SSAB's Letters, “Five-Year (“Sunset”) Review Of Antidumping Duty Order On Certain Carbon and Alloy Steel Cut-To-Length Plate From Austria: Notice Of Intent To Participate In Sunset Review,” dated December 15, 2021; “Five-Year (“Sunset”) Review Of Antidumping Duty Order On Certain Carbon and Alloy Steel Cut-To-Length Plate From Belgium: Notice Of Intent To Participate In Sunset Review,” dated December 15, 2021; “Five-Year (“Sunset”) Review Of Antidumping Duty Order On Certain Carbon and Alloy Steel Cut-To-Length Plate From Brazil: Notice Of Intent To Participate In Sunset Review,” dated December 15, 2021; “Five-Year (“Sunset”) Review Of Antidumping Duty Order On Certain Carbon and Alloy Steel Cut-To-Length Plate From China: Notice Of Intent To Participate In Sunset Review,” dated December 15, 2021; “Five-Year (“Sunset”) Review Of Antidumping Duty Order On Certain Carbon and Alloy Steel Cut-To-Length Plate From France: Notice Of Intent To Participate In Sunset Review,” dated December 15, 2021; “Five-Year (“Sunset”) Review Of Antidumping Duty Order On Certain Carbon and Alloy Steel Cut-To-Length Plate From Germany: Notice Of Intent To Participate In Sunset Review,” dated December 15, 2021; “Five-Year (“Sunset”) Review Of Antidumping Duty Order On Certain Carbon and Alloy Steel Cut-To-Length Plate From Italy: Notice Of Intent To Participate In Sunset Review,” dated December 15, 2021; “Five-Year (“Sunset”) Review Of Antidumping Duty Order On Certain Carbon and Alloy Steel Cut-To-Length Plate From Japan: Notice Of Intent To Participate In Sunset Review,” dated December 15, 2021; “Five-Year (“Sunset”) Review Of Antidumping Duty Order On Certain Carbon and Alloy Steel Cut-To-Length Plate From Korea: Notice Of Intent To Participate In Sunset Review,” dated December 15, 2021; “Five-Year (“Sunset”) Review Of Antidumping Duty Order On Certain Carbon and Alloy Steel Cut-To-Length Plate From South Africa: Notice Of Intent To Participate In Sunset Review,” dated December 15, 2021; “Five-Year (“Sunset”) Review Of Antidumping Duty Order On Certain Carbon and Alloy Steel Cut-To-Length Plate From Taiwan: Notice Of Intent To Participate In Sunset Review,” dated December 15, 2021; and “Five-Year (“Sunset”) Review Of Antidumping Duty Order On Certain Carbon and Alloy Steel Cut-To-Length Plate From Turkey: Notice Of Intent To Participate In Sunset Review,” dated December 15, 2021. See Cleveland Cliffs' Letters, “Five-Year (“Sunset”) Review Of Antidumping Duty Order On Certain Carbon and Alloy Steel Cut-To-Length Plate From Austria: Notice Of Intent To Participate In Sunset Review,” dated December 16, 2021; “Five-Year (“Sunset”) Review Of Antidumping Duty Order On Certain Carbon and Alloy Steel Cut-To-Length Plate From Belgium: Notice Of Intent To Participate In Sunset Review,” dated December 16, 2021; “Five-Year (“Sunset”) Review Of Antidumping Duty Order On Certain Carbon and Alloy Steel Cut-To-Length Plate From Brazil: Notice Of Intent To Participate In Sunset Review,” dated December 16, 2021; “Five-Year (“Sunset”) Review Of Antidumping Duty Order On Certain Carbon and Alloy Steel Cut-To-Length Plate From China: Notice Of Intent To Participate In Sunset Review,” dated December 16, 2021; “Five-Year (“Sunset”) Review Of Antidumping Duty Order On Certain Carbon and Alloy Steel Cut-To-Length Plate From France: Notice Of Intent To Participate In Sunset Review,” dated December 16, 2021; “Five-Year (“Sunset”) Review Of Antidumping Duty Order On Certain Carbon and Alloy Steel Cut-To-Length Plate From Germany: Notice Of Intent To Participate In Sunset Review,” dated December 16, 2021; “Five-Year (“Sunset”) Review Of Antidumping Duty Order On Certain Carbon and Alloy Steel Cut-To-Length Plate From Italy: Notice Of Intent To Participate In Sunset Review,” dated December 16, 2021; “Five-Year (“Sunset”) Review Of Antidumping Duty Order On Certain Carbon and Alloy Steel Cut-To-Length Plate From Japan: Notice Of Intent To Participate In Sunset Review,” dated December 16, 2021; “Five-Year (“Sunset”) Review Of Antidumping Duty Order On Certain Carbon and Alloy Steel Cut-To-Length Plate From Korea: Notice Of Intent To Participate In Sunset Review,” dated December 16, 2021; “Five-Year (“Sunset”) Review Of Antidumping Duty Order On Certain Carbon and Alloy Steel Cut-To-Length Plate From South Africa: Notice Of Intent To Participate In Sunset Review,” dated December 16, 2021; “Five-Year (“Sunset”) Review Of Antidumping Duty Order On Certain Carbon and Alloy Steel Cut-To-Length Plate From Taiwan: Notice Of Intent To Participate In Sunset Review,” dated December 16, 2021; “Five-Year (“Sunset”) Review Of Antidumping Duty Order On Certain Carbon and Alloy Steel Cut-To-Length Plate From Turkey: Notice Of Intent To Participate In Sunset Review,” dated December 16, 2021; See Nucor's Letters, “Carbon and Alloy Steel Cut-To-Length Plate From Austria: Notice of Intent to Participate in Sunset Review,” dated December 16, 2021; “Carbon and Alloy Steel Cut-To-Length Plate From Belgium: Notice of Intent to Participate in Sunset Review,” dated December 16, 2021; “Carbon and Alloy Steel Cut-To-Length Plate From Brazil: Notice of Intent to Participate in Sunset Review,” dated December 16, 2021; “Carbon and Alloy Steel Cut-To-Length Plate From the People's Republic of China: Notice of Intent to Participate in Sunset Review,” dated December 16, 2021; “Carbon and Alloy Steel Cut-To-Length Plate From France: Notice of Intent to Participate in Sunset Review,” dated December 16, 2021; “Carbon and Alloy Steel Cut-To-Length Plate From Germany: Notice of Intent to Participate in Sunset Review,” dated December 16, 2021; “Carbon and Alloy Steel Cut-To-Length Plate From Italy: Notice of Intent to Participate in Sunset Review,” dated December 16, 2021; “Carbon and Alloy Steel Cut-To-Length Plate From Japan: Notice of Intent to Participate in Sunset Review,” dated December 16, 2021; “Carbon and Alloy Steel Cut-To-Length Plate From South Korea: Notice of Intent to Participate in Sunset Review,” dated December 16, 2021; “Carbon and Alloy Steel Cut-To-Length Plate From South Africa: Notice of Intent to Participate in Sunset Review,” dated December 16, 2021; “Carbon and Alloy Steel Cut-To-Length Plate From Taiwan: Notice of Intent to Participate in Sunset Review,” dated December 16, 2021; and “Carbon and Alloy Steel Cut-To-Length Plate From Turkey: Notice of Intent to Participate in Sunset Review,” dated December 16, 2021.

⁴ Id.

Commerce received adequate substantive responses to the Initiation Notice from the domestic interested parties within the 30-day period specified in 19 CFR 351.218(d)(3)(i).⁵ Commerce received no substantive responses from any respondent interested parties. In accordance with section 751(c)(3)(B) of the Act and 19 CFR 351.218(e)(1)(ii)(C)(2), Commerce conducted expedited, i.e., 120-day, sunset reviews of the Orders.

⁵ See Domestic Interested Parties' Letters, “Five-Year (“Sunset”) Review Of Antidumping Duty Order On Certain Carbon and Alloy Steel Cut-To-Length Plate from China: Domestic Industry Substantive Response,” dated December 27, 2021 (China Substantive Response); “Five-Year (“Sunset”) Review Of Antidumping Duty Order On Certain Carbon and Alloy Steel Cut-To-Length Plate from Japan: Domestic Industry Substantive Response,” dated December 27, 2021 (Japan Substantive Response); “Five-Year (“Sunset”) Review Of Antidumping Duty Order On Certain Carbon and Alloy Steel Cut-To-Length Plate from Korea: Domestic Industry Substantive Response,” dated December 27, 2021 (Korea Substantive Response); “Five-Year (“Sunset”) Review Of Antidumping Duty Order On Certain Carbon and Alloy Steel Cut-To-Length Plate from Taiwan: Domestic Industry Substantive Response,” dated December 27, 2021; “Carbon and Alloy Steel Cut-to-Length Plate from Austria, First Sunset Review: Domestic Producers' Substantive Response to Notice of Initiation,” dated December 28, 2021; “Carbon and Alloy Steel Cut-to-Length Plate from Brazil, First Review: Domestic Producers' Substantive Response to Notice of Initiation,” dated December 28, 2021; “Carbon and Alloy Steel Cut-to-Length Plate from Germany, First Review: Domestic Producers' Substantive Response to Notice of Initiation,” dated December 28, 2021; “Carbon and Alloy Steel Cut-to-Length Plate from South Africa, First Sunset Review: Domestic Producers' Substantive Response to Notice of Initiation,” dated December 28, 2021; “Certain Carbon and Alloy Steel Cut-to-Length Plate from Belgium: Substantive Response to Notice of Initiation of Sunset Review,” dated January 3, 2022; “Certain Carbon and Alloy Steel Cut-to-Length Plate from France: Substantive Response to Notice of Initiation of Sunset Review,” dated January 3, 2022; “Certain Carbon and Alloy Steel Cut-to-Length Plate from Italy: Substantive Response to Notice of Initiation of Sunset Review,” dated January 3, 2022; and “Certain Carbon and Alloy Steel Cut-to-Length Plate from Turkey: Substantive Response to Notice of Initiation of Sunset Review,” dated January 3, 2022.

Scopes of the Orders

The products covered by these Orders are certain carbon and alloy steel hot-rolled or forged flat plate products not in coils, whether or not painted, varnished, or coated with plastics or other non-metallic substances (cut-to-length plate). Full descriptions of the scopes of the Orders are contained in the Issues and Decision Memorandum.⁶

⁶ See Memorandum, “Issues and Decision Memorandum for the Expedited Sunset Reviews of the Antidumping Duty Orders on Certain Carbon and Alloy Steel Cut-to-Length Plate from Austria, Belgium, Brazil, the People's Republic of China, France, the Federal Republic of Germany, Italy, Japan, the Republic of Korea, Italy, Japan, South Africa, Taiwan, and the Republic of Turkey,” dated concurrently with, and hereby adopted by, this notice (Issues and Decision Memorandum).

Analysis of Comments Received

All issues raised in these reviews are addressed in the Issues and Decision Memorandum, including the likelihood of continuation or recurrence of dumping in the event of revocation and the magnitude of dumping margins likely to prevail if the orders were revoked. Parties can find a complete discussion of all issues raised in these reviews and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of Sunset Reviews

Pursuant to sections 751(c) and 752(c) of the Act, Commerce determines that revocation of the Orders would be likely to lead to continuation or recurrence of dumping and that the magnitude of the margins of dumping likely to prevail would be up to the following weighted-average dumping margins:

Country | Weighted- average dumping margin (percent)
Austria | 53.72
Belgium | 51.78
Brazil | 74.52
China | 68.27
France | 148.02
Germany | 22.90
Italy | 22.19
Japan | 48.67
Korea | 7.39
South Africa | 94.14
Taiwan | 6.95
Turkey | 50.00

Notification Regarding Administrative Protective Orders

This notice serves as a reminder to parties subject to administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

Commerce is issuing and publishing these final results and notice in accordance with sections 751(c), 752(c), and 777(i)(1) of the Act, and 19 CFR 351.221(c)(5)(ii).

Dated: March 18, 2022.
Lisa W. Wang,
Assistant Secretary for Enforcement and Compliance.

Appendix

List of Topics Discussed in the Issues and Decision Memorandum

I. Summary

II. Background

III. Scopes of the Orders

IV. History of the Orders

V. Legal Framework

VI. Discussion of the Issues

VII. Final Results of Expedited Sunset Reviews

VIII. Recommendation

[FR Doc. 2022-06274 Filed 3-24-22; 8:45 am]

BILLING CODE 3510-DS-P